NUCLEAR REGULATORY COMMISSION

[NRC-2010-0295]

Withdrawal of Regulatory Guides 1.38, 1.94, and 1.116

AGENCY: Nuclear Regulatory Commission.

ACTION: Withdrawal of three Regulatory Guides: Regulatory Guide 1.38, “Quality Assurance Requirements for Packaging, Shipping, Receiving, Storage, and Handling of Items for a Water-Cooled Nuclear Power Plant,” dated May 1977; Regulatory Guide 1.94, “Quality Assurance Requirements for Installation, Inspection, and Testing of Structural Concrete, and Structural Steel During the Construction Phase of Nuclear Power Plants,” dated April 1976; and Regulatory Guide 1.116, “Quality Assurance Requirements for Installation, Inspection, and Testing of Mechanical Equipment and Systems,” dated May 1977.

FOR FURTHER INFORMATION CONTACT: Mark P. Orr, Regulatory Guide Development Branch, Division of Engineering, Office of Nuclear Regulatory Research, U.S. Nuclear Regulatory Commission, Washington, DC 20555-0001, telephone: 301-251-7495 or e-mail Mark.Orr@nrc.gov.

SUPPLEMENTARY INFORMATION:

I. Introduction

The U.S. Nuclear Regulatory Commission (NRC) is withdrawing Regulatory Guide 1.38, “Quality Assurance Requirements for Packaging, Shipping, Receiving, Storage, and Handling of Items for Water-Cooled Nuclear Power Plants,” dated May 1977; Regulatory Guide 1.94, “Quality Assurance Requirements for Installation, Inspection, and Testing of Structural Concrete, and Structural Steel During the Construction Phase of Nuclear Power Plants,” dated April 1976; and Regulatory Guide 1.116, “Quality Assurance Requirements for Installation, Inspection, and Testing of Mechanical Equipment and Systems,” dated May 1977.

Regulatory Guide 1.38 endorses the American Society of Mechanical Engineers (ASME) American National Standard Institute (ANSI) Standard N45.2.2—1972, “Packaging, Shipping, Receiving, Storage and Handling of Items for Nuclear Power Plants (During the Construction Phase),” dated December 20, 1972.

Regulatory Guide 1.94 endorses the ASME/ANSI Standard N45.2.5—1974, “Supplementary Quality Assurance Requirements for Installation, Inspection, and Testing of Structural Concrete and Structural Steel During the Construction Phase of Nuclear Power Plants,” dated July 8, 1974 and American Concrete Institute (ACI) standard 309-72, “Recommended Practices for Consolidation of Concrete,” dated October 1, 1972.

Regulatory Guide 1.116 endorses ASME/ANSI Standard N45.2—1975, “Supplementary Quality Assurance Requirements for Installation, Inspection and Testing of Mechanical Equipment and Systems for the Construction Phase of Nuclear Power Plants,” dated May 20, 1975; U.S. Atomic Energy Commission (USAEC) Technical Reports WASH 1309, “Guidance on Quality Assurance Requirements During the Construction Phase of Nuclear Power Plants,” dated May 10, 1974; and WASH-1284, “Guidance on Quality Assurance Requirements During the Operations Phase of Nuclear Power Plants,” dated October 26, 1973.

The standards endorsed by Regulatory Guides 1.38, 1.94, and 1.116 have been superseded and replaced by the ASME/ANSI Standard NQA-1, “Quality Assurance Requirements for Nuclear Facility Applications,” which is endorsed by Title 10 of the Code of Federal Regulations (10 CFR) Subsection 50.55a, “Codes and Standards,” (10 CFR 50.55a).

The quality assurance requirements in 10 CFR 50.55a paragraphs (b)(1)(iv), “Quality Assurance,” (b)(2)(x), “Quality Assurance,” and (b)(2)(xxvii)(3)(i), “Quality Assurance” all state that the requirements in specific editions and addenda of NQA-1 are an acceptable method of demonstrating compliance with the quality assurance requirements of Appendix B to 10 CFR part 50, “Quality Assurance Criteria for Nuclear Power Plants and Fuel Reprocessing Plants.” In those cases where the requirements of the licensee's Appendix B quality assurance program are more stringent than those contained in NQA-1, the licensee's quality assurance program applies.

Additional quality assurance guidance for NRC staff, licensees, and applicants may be found in NUREG-0800, “Standard Review Plan,” Chapter 17, “Quality Assurance” as well as Regulatory Guide 1.28, “Quality Assurance Program Criteria (Design and Construction)” which was revised and issued in June 2010 to endorse (with additions and modifications) the Part I and Part II requirements of NQA-1-2008 and the NQA 1a-2009 Addenda for the implementation of a QA program during the design and construction phases of nuclear power plants and fuel reprocessing facilities.

II. Further Information

The withdrawal of Regulatory Guides 1.38, 1.94, and 1.116 does not alter any prior or existing licensing commitments based on their use. The guidance provided in these regulatory guides is no longer necessary. Regulatory guides may be withdrawn when their guidance no longer provides useful information, or is superseded by technological, congressional actions, or other events.

Guides are revised for a variety of reasons and the withdrawal of a Regulatory Guide should be thought of as the final revision of the guide. Although a regulatory guide is withdrawn, current licensees may continue to use it, and withdrawal does not affect any existing licenses or agreements. Withdrawal means that the guide should not be used for future NRC licensing activities. Changes to existing licenses would be accomplished using other regulatory products.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, Maryland 20852-2738. The PDR's mailing address is US NRC PDR, Washington, DC 20555-0001. You can reach the staff by telephone at 301-415-4737 or 800-397-4209, by fax at 301-415-3548, and by e-mail to pdr.resource@nrc.gov.

Regulatory guides are not copyrighted, and NRC approval is not required to reproduce them.

Dated at Rockville, Maryland, this 31st day of August 2010.
For the Nuclear Regulatory Commission.
Harriet Karagiannis,
Acting Chief, Regulatory Guide Development Branch, Division of Engineering, Office of Nuclear Regulatory Research.

[FR Doc. 2010-22492 Filed 9-8-10; 8:45 am]

BILLING CODE 7590-01-P